DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Certification Requirements for Distributors of NOAA Electronic Navigational Charts/NOAA Hydrographic Products.

OMB Control Number: 0648-0508.

Form Number(s): NA.

Type of Request: Regular submission (extension of a current information collection).

Number of Respondents: 8.

Average Hours Per Response: Distribution reports, 1 hour; error reportings, 1 hour, 30 minutes.

Burden Hours: 328.

Needs and Uses: This request is for extension of a currently approved information collection.

The National Ocean Service (NOS) Office of Coast Survey manages the Certification Requirements for Distributors of NOAA Electronic Navigational Charts (NOAA ENCs®). The certification allows entities to download, redistribute, repackage, or in some cases reformat, official NOAA ENCs and retain the NOAA ENC's official status. The regulations for implementing the Certification are at 15 CFR part 995.

The recordkeeping and reporting requirements of 15 CFR part 995 form the basis for this collection of information. Certified ENCs report distribution data twice per year, and submit error reports whenever applicable, averaging approximately 26 reports per year per ENC. This information allows the Office of Coast Survey to administer the regulation, and to better understand the marketplace resulting in products that meet the needs of the customer in a timely and efficient manner.

Affected Public: Business or other for-profit organizations.

Frequency: Semiannually and on occasion.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: February 9, 2012.
Gwellnar Banks,
Management Analyst, Office of the Chief Information Officer.

[FR Doc. 2012-3393 Filed 2-13-12; 8:45 am]

BILLING CODE 3510-JE-P